SECURITIES AND EXCHANGE COMMISSION

[File No. 500-1]

In The Matter of Cynk Technology Corp.; Order of Suspension of Trading

July 11, 2014.

It appears to the Securities and Exchange Commission that the public interest and the protection of investors require a suspension of trading in the securities of Cynk Technology Corp. (“Cynk”) because of concerns regarding the accuracy and adequacy of information in the marketplace and potentially manipulative transactions in Cynk's common stock. Cynk is a Nevada corporation with a business address in Belize City, Belize and its common stock is quoted on the OTC Link (previously “Pink Sheets”) operated by OTC Markets Group, Inc. (“OTC Link) under the ticker symbol CYNK.

The Commission is of the opinion that the public interest and the protection of investors require a suspension of trading in the securities of the above-listed company.

Therefore, it is ordered, pursuant to Section 12(k) of the Securities Exchange Act of 1934, that trading in the securities of the above-listed company is suspended for the period from 9:30 a.m. EDT on July 11, 2014 through 11:59 p.m. EDT on July 24, 2014.

By the Commission.
Lynn M. Powalski,
Deputy Secretary.

[FR Doc. 2014-16693 Filed 7-11-14; 4:15 pm]

BILLING CODE 8011-01-P